DEPARTMENT OF HEALTH AND HUMAN SERVICES

Centers for Disease Control and Prevention

[30Day-12-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: “Physical Activity: The Arthritis Pain Reliever” Campaign Evaluation—New—National Center for Chronic Disease Prevention and Health Promotion (NCCDPHP), Centers for Disease Control and Prevention (CDC).

Arthritis affects nearly 43 million Americans, or about one in every six people, and is the leading cause of disability among adults in the United States. Because of the broad public health impact of this disease, the Centers for Disease Control and Prevention (CDC) developed the National Arthritis Action Plan in 1998 as a comprehensive approach to reducing the burden of arthritis on the United States. As part of its efforts to implement the National Arthritis Action Plan, CDC, National Center for Chronic Disease Prevention and Health Promotion developed a physical activity campaign, People with Arthritis (PWA). PWA targets African American and Caucasian men and women aged 45-64, high school education or less, with an annual income less than $35,000 per year. Campaign materials include print ads, 15-, 30- and 60-second radio public service announcements, and desktop displays with brochures for pharmacies, doctors' offices, and community centers. The campaign objectives are to increase target audience members' (1) beliefs about physical activity as an arthritis management strategy (there are “things they can do” to make arthritis better, and physical activity is an important part of arthritis management); (2) knowledge of the benefits of physical activity and appropriate physical activity for people with arthritis; (3) confidence in their ability to be physically active, and (4) trial of physical activity behaviors.

During 2002, the health communications campaign, “Physical Activity: The Arthritis Pain Reliever” was pilot-tested by 6 CDC-funded states. CDC plans to disseminate the health communications arthritis campaign to 38 CDC-funded states. The preliminary pilot tests focused on reach and exposure. The purpose of this evaluation is to determine if core campaign messages are reaching the target audience; and if so, how they are affecting knowledge, beliefs, confidence and behaviors of people with arthritis. CDC will use the data from this evaluation to make recommendations to state health departments and their partners on the use of this media campaign.

In this data collection, CDC proposes to conduct an evaluation using convenience samples in three markets, including two test markets and one comparison market using a quasi-experimental design. The primary method for data collection will be a 15-minute tracking survey administered via telephone. The survey will be conducted before and after the campaign. Six months after the post campaign data collection, CDC will conduct a follow-up survey on approximately one-third of the respondents who participated in the post campaign data collection. The annualized burden for this data collection is 555 hours.

Respondents | Number of respondents | Responses per respondent | Average hours per response (in hours)
Pre-campaign | 960 | 1 | 15/60
Post-campaign | 960 | 1 | 15/60
Follow-up | 300 | 1 | 15/60

Dated: December 11, 2003
Alvin Hall,
Director, Management Analysis and Services Office, Centers for Disease Control and Prevention.

[FR Doc. 03-31308 Filed 12-18-03; 8:45 am]

BILLING CODE 4163-18-P